DEPARTMENT OF AGRICULTURE

Forest Service

Siskiyou County Resource Advisory Committee

AGENCY: Forest Service, USDA.

ACTION: Notice of meeting.

SUMMARY: The Siskiyou County Resource Advisory Committee (RAC) will meet in Yreka, California, November 15, 2004. The meeting will include routine business, presentations on two large scale projects as well as final reports on completed RAC projects, and the review and recommendation for implementation of submitted project proposals. Members of the public interested in the RAC and its authorizing law are welcome to attend.

DATES: The meeting will be held November 15, 2004, from 4:30 p.m. until 8 p.m.

ADDRESSES: The meeting will be held at the Yreka High School Library, Preece Way, Yreka, California.

FOR FURTHER INFORMATION CONTACT: Don Hall, RAC Coordinator, Klamath National Forest, (530) 841-4468 or electronically at donaldhall@fs.fed.us.

SUPPLEMENTARY INFORMATION: The meeting is open to the public. Public comment opportunity will be provided and individuals will have the opportunity to address the Committee at that time.

Dated: October 29, 2004.
Margaret J. Boland,
Designated Federal Official.

[FR Doc. 04-24713 Filed 11-4-04; 8:45 am]

BILLING CODE 3410-11-M